COMMISSION ON CIVIL RIGHTS

Notice of Public Meeting of the Guam Advisory Committee; Cancellation

AGENCY: Commission on Civil Rights.

ACTION: Notice; cancellation of virtual business meeting.

SUMMARY: The Commission on Civil Rights published a notice in the Federal Register concerning a virtual business meeting of the Guam Advisory Committee. The meeting scheduled for Tuesday, April 18, 2023, at 9:00 a.m. (ChST) is cancelled. The notice is in the Federal Register of Monday, March 27, 2023, in FR Doc. 2023-06298 in the first and second columns of page 18114.

FOR FURTHER INFORMATION CONTACT: Liliana Schiller, lschiller@usccr.gov, (202) 770-1856.

Dated: April 12, 2023.
David Mussatt,
Supervisory Chief, Regional Programs Unit.

[FR Doc. 2023-08039 Filed 4-14-23; 8:45 am]

BILLING CODE P